DEPARTMENT OF TRANSPORTATION

Federal Aviation Administration

14 CFR Part 39

[Docket No. FAA-2012-1167; Directorate Identifier 2012-NE-36-AD]

RIN 2120-AA64

Airworthiness Directives; Rolls-Royce Deutschland Ltd & Co KG Turbofan Engines

AGENCY: Federal Aviation Administration (FAA), DOT.

ACTION: Notice of proposed rulemaking (NPRM).

SUMMARY: We propose to adopt a new airworthiness directive (AD) for certain Rolls-Royce Deutschland Ltd & Co KG (RRD) models Tay 620-15 and Tay 650-15 turbofan engines. This proposed AD was prompted by RRD recalculating the Declared Safe Cyclic Life (DSCL) for certain low-pressure compressor (LPC) rotor disc assemblies operating to the Plan D Flight Mission. This proposed AD would require removing the affected LPC rotor disc assemblies at a new lower recalculated DSCL. We are proposing this AD to prevent failure of the LPC rotor disc assembly, uncontained engine failure, and damage to the airplane.

DATES: We must receive comments on this proposed AD by February 11, 2013.

ADDRESSES: You may send comments, using the procedures found in 14 CFR 11.43 and 11.45, by any of the following methods:

• Federal eRulemaking Portal: Go to http://www.regulations.gov and follow the instructions for sending your comments electronically.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

• Fax: 202-493-2251.

For service information identified in this proposed AD, contact Rolls-Royce Deutschland Ltd & Co KG, Eschenweg 11-15827 Dahlewitz, Blankenfelde-Mahlow, Germany; phone: +49 0 33-7086-1944; fax: +49 0 33-7086-3276. You may view this service information at the FAA, Engine & Propeller Directorate, 12 New England Executive Park, Burlington, MA 01803. For information on the availability of this material at the FAA, call 781-238-7125.

Examining the AD Docket

You may examine the AD docket on the Internet at http://www.regulations.gov; or in person at the Docket Operations office between 9 a.m. and 5 p.m., Monday through Friday, except Federal holidays. The AD docket contains this proposed AD, the regulatory evaluation, any comments received and other information. The street address for the Docket Operations office (phone: 800 647-5527) is the same as the Mail address provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; phone: 781-238-7779; fax: 781-238-7199; email: Frederick.zink@faa.gov.

SUPPLEMENTARY INFORMATION:

Comments Invited

We invite you to send any written relevant data, views, or arguments about this proposed AD. Send your comments to an address listed under the ADDRESSES section. Include “Docket No. FAA-2012-1167; Directorate Identifier 2012-NE-36-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the aviation authority for the Member States of the European Community, has issued EASA AD 2012-0204, dated October 1, 2012 (referred to hereinafter as “the MCAI”), to correct an unsafe condition for the specified products. The MCAI states:

The Tay 650-15 and Tay 650-15/10 engine Time Limits Manual Chapter 05-10-01 contains maximum approved life limitations, identified as Declared Safe Cyclic Life (DSCL) for Low Pressure Compressor (LPC) rotor disc assemblies Part Number (P/N) JR31198A and P/N JR34563A operated to the Plan D Flight Mission, which has been recalculated to a lower value.

Decreased DSCL of LPC rotor disc assemblies P/N JR31198A and P/N JR34563A may affect these disc assemblies installed in Tay 650-15 and Tay 650-15/10 engines as well as in Tay 620-15 and Tay 620-15/20 engines.

Failure to take decreased DSCL of affected LPC rotor disc assemblies into account could lead to affected part failure and consequent release of high energy debris potentially resulting in damage to, and/or reduced control of, the aeroplane.

You may obtain further information by examining the MCAI in the AD docket.

Relevant Service Information

RRD has issued Alert Service Bulletin TAY-72-A1772 dated August 9, 2012. The actions described in this service information are intended to correct the unsafe condition identified in the MCAI.

FAA's Determination and Requirements of This Proposed AD

This product has been approved by the aviation authority of Germany, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD requires removing the affected LPC rotor disc assemblies at the new lower recalculated DSCL.

Costs of Compliance

We estimate that this proposed AD will affect 4 engines installed on airplanes of U.S. registry. We also estimate that it would require 4 hours to perform the actions required by this AD. The average labor rate is $85 per hour. Prorated life for the disc assembly is approximately $650 per disc. Based on these figures, we estimate the cost of the proposed AD on U.S. operators to be $3,960.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG (RRD) (formerly Rolls-Royce plc): Docket No. FAA-2012-1167; Directorate Identifier 2012-NE-36-AD.

(a) Comments Due Date

We must receive comments by February 11, 2013.

(b) Affected Airworthiness Directives (ADs)

None.

(c) Applicability

This AD applies to Rolls-Royce Deutschland Ltd & Co KG (RRD) models Tay 620-15 and Tay 650-15 turbofan engines with a low-pressure compressor (LPC) rotor disc assembly, part number (P/N) JR31198A or P/N JR34563A installed.

(d) Reason

This AD was prompted by RRD recalculating the Declared Safe Cyclic Life for certain LPC rotor disc assemblies operating to the Plan D Flight Mission. We are issuing this AD to prevent failure of the LPC rotor disc assembly, uncontained engine failure, and loss of the airplane.

(e) Actions and Compliance

Unless already done, do the following. For engines that have operated to the Plan D Flight Mission configuration, remove the LPC rotor disc assembly from service before accumulating 18,700 engine flight cycles. Do not return to service nor approve for return to service any engine with the affected discs installed that exceeds 18,700 engine flight cycles.

(f) Alternative Methods of Compliance (AMOCs)

The Manager, Engine Certification Office, FAA, may approve AMOCs for this AD. Use the procedures found in 14 CFR 39.19 to make your request.

(g) Related Information

(1) For more information about this AD, contact Frederick Zink, Aerospace Engineer, Engine Certification Office, FAA, Engine & Propeller Directorate, 12 New England Executive Park, Burlington, MA 01803; email: Frederick.zink@faa.gov; phone: 781-238-7779; fax: 781-238-7199.

(2) Refer to European Aviation Safety Agency AD 2012-0204, dated October 1, 2012, and RRD Alert Service Bulletin TAY-72-A1772, dated August 9, 2012, for related information.

(3) For service information identified in this AD, contact Rolls-Royce Deutschland Ltd & Co KG, Eschenweg 11 Dahlewitz 15827, Blankenfelde-Mahlow, Germany; phone: +49 0 33-7086-1944; fax: +49 0 33-7086-3276.

(4) You may view this service information at the FAA, Engine & Propeller Directorate, 12 New England Executive Park, Burlington, MA. For information on the availability of this material at the FAA, call 781-238-7125.

Issued in Burlington, Massachusetts, on December 6, 2012.
Robert J. Ganley,
Acting Manager, Engine & Propeller Directorate, Aircraft Certification Service.

[FR Doc. 2012-30065 Filed 12-12-12; 8:45 am]

BILLING CODE 4910-13-P